DEPARTMENT OF THE INTERIOR

Fish and Wildlife Service

50 CFR Part 32

Hunting and Fishing

CFR Correction

In Title 50 of the Code of Federal Regulations, Parts 18 to 199, revised as of October 1, 2010, on page 448, in § 32.60, in the Ernest F. Hollings ACE Basin National Wildlife Refuge, reinstate paragraph D, to read as follows:

§ 32.60 South Carolina.

* * * * *

Ernest F. Hollings ACE Basin National Wildlife Refuge

* * * * *

D. Sport Fishing. We allow fishing on designated areas of the refuge in accordance with State regulations subject to the following conditions:

1. We allow fishing in impounded waters contained within dikes and levees in the Beaufort County portion of the refuge annually from April 1 through August 31 during daylight hours. We close fishing during all remaining times within all refuge-impounded waters.

2. We prohibit boat use within refuge-impounded waters. We only allow bank fishing.

3. We only allow hook and line sport fishing utilizing rod and reel or pole.

4. We only open access into refuge areas to fishing by foot or bicycle.

* * * * *

[FR Doc. 2011-25199 Filed 9-28-11; 8:45 am]

BILLING CODE 1505-01-D